DEPARTMENT OF COMMERCE

Foreign-Trade Zones Board

[Order No. 1485]

Approval For Expansion of Subzone 61D; Merck Sharpe & Dohme Quimica De Puerto Rico, Inc. (Pharmaceutical Products); Arecibo, Puerto Rico

Pursuant to its authority under the Foreign-Trade Zones Act of June 18, 1934, as amended (19 U.S.C. 81a-81u), the Foreign-Trade Zones Board (the Board) adopts the following Order:

Whereas, the Puerto Rico Trade & Export Company, grantee of FTZ 61, has requested authority on behalf of Merck Sharpe & Dohme Quimica De Puerto Rico, Inc. (MSDQ), to expand the subzone and scope of manufacturing authority in terms of capacity at Subzone 61D at the MSDQ pharmaceutical manufacturing plant in Arecibo, Puerto Rico (FTZ Docket 62-2005, filed 12/7/05); and,

Whereas, notice inviting public comment has been given in the Federal Register (70 FR 74290, 12/15/05);

Whereas, the Board adopts the findings and recommendations of the examiner's report, and finds that the requirements of the FTZ Act and the Board's regulations are satisfied, and that approval of the application is in the public interest;

Now, therefore, the Board hereby approves the expansion of the subzone and the scope of authority under zone procedures in terms of capacity within Subzone 61D for the manufacture of pharmaceutical products at the Merck Sharpe & Dohme Quimica De Puerto Rico, Inc., plant located in Arecibo, Puerto Rico, as described in the application and the Federal Register notice, subject to the FTZ Act and the Board's regulations, including Section 400.28.

Signed at Washington, DC, this 20th day of October 2006.
David M. Spooner,
Assistant Secretary of Commerce for Import Administration, Alternate Chairman, Foreign-Trade Zones Board.
Attest:
Pierre V. Duy,
Acting Executive Secretary.

[FR Doc. E6-17968 Filed 10-25-06; 8:45 am]

BILLING CODE 3510-DS-P